DEPARTMENT OF COMMERCE

National Oceanic and Atmospheric Administration

50 CFR Part 679

[Docket No. 991223349-9349-01; I.D. 122199A]

Fisheries of the Exclusive Economic Zone Off Alaska; Bering Sea and Aleutian Islands Area; Interim Harvest Specifications for Groundfish; Correction

AGENCY: National Marine Fisheries Service (NMFS), National Oceanic and Atmospheric Administration (NOAA), Commerce.

ACTION: Correction.

SUMMARY: NMFS is correcting the Interim 2000 Harvest Specifications for groundfish of the Bering Sea and Aleutian Islands management area (BSAI).

DATES: Effective 0001 hrs, Alaska local time, January 1, 2000, until the effective date of final 2000 harvest specifications for groundfish, which will be published in the Federal Register.

FOR FURTHER INFORMATION CONTACT: Mary Furuness, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP at subpart H of 50 CFR part 600 and CFR part 679.

Correction

In the rule, Interim 2000 Harvest Specifications for Groundfish of the BSAI, published on January 3, 2000 (65 FR 60) FR DOC 99-34030, page 62, under Table 1 INTERIM 2000 TAC AMOUNTS FOR GROUNDFISH AND APPORTIONMENTS THEREOF FOR THE BERING SEA AND ALEUTIAN ISLANDS MANAGEMENT AREA, 3rd column “Interim TAC,” at the stub entry “Atka mackerel,” (1) remove the figure “14,306” assigned to Other gear, and add the figure “7,153” in its place, and (2) under 3rd column “Interim TAC” at the stub entry “Total interim TAC,” remove the figure “635,888” and add the figure “628,735” in its place.

Classification

This action is required by § 679.20 and is exempt from review under E.O. 12866.

Authority: 16 U.S.C. 1801 et seq.

Dated: January 31, 2000.
Bruce C. Morehead,
Acting Director, Office of Sustainable Fisheries, National Marine Fisheries Service.

[FR Doc. 00-2455 Filed 2-3-00; 8:45 am]

BILLING CODE 3510-22-F